DEPARTMENT OF AGRICULTURE

Forest Service

Boundary Establishment for Whitefish, Indian and Carp National Wild and Scenic Rivers; Hiawatha National Forest; Alger, Delta, Schoolcraft, Mackinac Counties; Michigan

AGENCY: Forest Service, USDA.

ACTION: Notice of availability.

SUMMARY: In accordance with Section 3(b) of the Wild and Scenic Rivers Act, the USDA Forest Service, Washington Office, is transmitting the final boundaries of the Whitefish, Indian and Carp National Wild and Scenic Rivers to Congress.

FOR FURTHER INFORMATION CONTACT: Information may be obtained by contacting Ted Schiltz, Recreation Program Manager, Hiawatha National Forest, 2727 North Lincoln Road, Escanaba, MI 49829. Telephone 906-789-3346.

SUPPLEMENTARY INFORMATION: The Whitefish, Indian and Carp Wild and Scenic River boundaries are available for review at the following offices: USDA Forest Service, Office of the Chief, 1400 Independence Avenue SW., Washington, DC 20024; USDA Forest Service, Eastern Region, Suite 400, 626 East Wisconsin Avenue, Milwaukee, WI 53202 and; Hiawatha National Forest, 2727 North Lincoln Road, Escanaba, MI 49829. A detailed legal description is available upon request.

The Michigan Wild and Scenic Rivers Act (Pub. L. 102-249) of March 3, 1991, designated the Whitefish, Indian and Carp Rivers, Michigan, as a National Wild and Scenic Rivers, to be administered by the Secretary of Agriculture. As specified by law, the boundary will not be effective until ninety days after Congress receives the transmittal.

Dated: August 19, 2009.
Thomas A. Schmidt,
Forest Supervisor.

[FR Doc. E9-21078 Filed 9-1-09; 8:45 am]

BILLING CODE 3410-11-M